SOCIAL SECURITY ADMINISTRATION

[Docket No: SSA-2019-0034]

Agency Information Collection Activities: Proposed Request and Comment Request

The Social Security Administration (SSA) publishes a list of information collection packages requiring clearance by the Office of Management and Budget (OMB) in compliance with Public Law 104-13, the Paperwork Reduction Act of 1995, effective October 1, 1995. This notice includes one new, one extension, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2019-0034].

I. The information collection below is pending at SSA. SSA will submit it to OMB within 60 days from the date of this notice. To be sure we consider your comments, we must receive them no later than October 15, 2019. Individuals can obtain copies of the collection instruments by writing to the above email address.

Advance Representative Payee Representative Payee Supporting Statement for Advance Designation of Representative Payee—0960-NEW. On April 13, 2018, the President signed into law The Strengthening Protections for Social Security Beneficiaries Act of 2018, also known as Public Law 115-165. Section 201 of the law allows SSA beneficiaries and applicants under Title II, Title VIII and Title XVI, of the Social Secuirty Act (Act) to designate individuals to serve as a representative payee should the need arise in the future. Section 201(j)(2) of the Act provides the requirements for selecting a qualified representative payee. SSA only offers the option to advance designate to capable adults and emancipated minors. Beneficiaries who have an assigned representative payee, or have a representative application in process, cannot advance designate. Form SSA-4547, Advance Designation of Representative Payee, allows beneficiaries or applicants the option to designate individuals in order of priority, to serve as a representative. Beneficiaries or applicants can update or change the advance designee order of priority at any time. SSA uses the information on Form SSA-4547 to select a qualified representative payee in order of priority. If the selected representative payee is unable or unwilling to serve, or meet SSA requirements, SSA will select another representative payee to serve in the beneficiaries and applicants best interest. SSA will notify beneficiaries annually of the individuals they chose in advance to be their representative payee. The respondents are SSA beneficiaries and claimants who want to choose an advance designate representative.

Type of Request: Request for a new information collection.

Modality of completion | Number of responses | Frequency of response | Average burden per response (minutes) | Total estimated total annual burden (hours)
SSA-4547—Paper Version | 85,733 | 1 | 6 | 8,573
SSA-4547—Intranet version (SSI Claims System; MCS; iMAIN) | 8,451,966 | 1 | 6 | 845,197
i4547—Internet version | 3,201,466 | 1 | 6 | 320,147
Totals | 11,739,165 |  |  | 1,173,917

II. SSA submitted the information collections below to OMB for clearance. Your comments regarding these information collections would be most useful if OMB and SSA receive them 30 days from the date of this publication. To be sure we consider your comments, we must receive them no later than September 12, 2019. Individuals can obtain copies of the OMB clearance packages by writing to OR.Reports.Clearance@ssa.gov.

1. Report to United States Social Security Administration by Person Receiving Benefits for a Child or for an Adult Unable to Handle Funds/Report to the United States Social Security Administration—0960-0049. Section 203(c) of the Act requires the Commissioner of SSA to make benefit deductions, and provides for the Commissioner to impose penalty deductions on benefits of individuals who fail to make timely reports of events, which are cause for deductions. SSA uses Forms SSA-7161-OCR-SM and SSA-7162-OCR-SM to: (1) Determine continuing entitlement to Social Security benefits; (2) correct benefit amounts for beneficiaries outside the United States; and (3) monitor the performance of representative payees outside the United States. This collection is mandatory as an annual (or every other year, depending on the country of residence) review for fraud prevention. In addition, the results can affect benefits by increasing or decreasing payment amount or by causing SSA to suspend or terminate benefits. The respondents are individuals living outside the United States who are receiving benefits on their own (or on behalf of someone else) under Title II of the Act.

Type of Request: Revision of an OMB-approved information collection.

Modality of completion | Number of respondents | Frequency of response | Average burden per response (minutes) | Estimated total annual burden (hours)
SSA-7161-OCR-SM | 42,314 | 1 | 15 | 10,579
SSA-7162-OCR-SM | 426,448 | 1 | 5 | 35,537
Totals | 468,762 |  |  | 46,116

2. Waiver of Your Right to Personal Appearance before an Administrative Law Judge—20 CFR 404.948(b)(l)(i) and 416.1448(b)(l)(i)—0960-0284. Applicants for Social Security, Old Age, Survivors and Disability Insurance (OASDI) benefits and Supplemental Security Income (SSI) payments have the statutory right to appear in person, or through a representative, and present evidence about their claims at a hearing before an administrative law judge (ALJ). If claimants wish to waive this right to appear before an ALJ, they must do so in writing. Form HA-4608 serves as a written waiver for the claimant's right to a personal appearance before an ALJ. The ALJ uses the information we collect on Form HA-4608 to continue processing the case, and makes the completed form a part of the documentary evidence of record by placing it in the official record of the proceedings as an exhibit. Respondents are applicants or claimants for OASDI and SSI, or their representatives, who request to waive their right to appear in person before an ALJ.

Type of Request: Revision of an OMB-approved information collection.

Modality of completion | Number of respondents | Frequency of response | Average burden per response (minutes) | Estimated total annual burden (hours)
HA-4608 | 12,000 | 1 | 2 | 400

3. Request for Social Security Statement—20 CFR 404.810—0960-0466. Section 205(c)(2)(A) of the Act requires the Commissioner of SSA to establish and maintain records of wages paid to, and amounts of self-employment income derived by, each individual as well as the periods in which such wages were paid and such income derived. An individual may complete and mail Form SSA-7004 to SSA to obtain a Statement of Earnings or Quarters of Coverage. SSA uses the information Form SSA-7004 collects to identify respondent's Social Security earnings records; extract posted earnings information; calculate potential benefit estimates; produce the resulting Social Security statements; and mail them to the requesters. The respondents are Social Security number holders requesting information about their Social Security earnings records and estimates of their potential benefits.

Type of Request: Revision of an OMB-approved information collection.

Modality of completion | Number of respondents | Frequency of response | Average burden per response (minutes) | Estimated total annual burden (hours)
SSA-7004 | 60,026 | 1 | 5 | 5,002

4. Function Report—Child (Birth to 1st Birthday, Age 1 to 3rd Birthday, Age 3 to 6th Birthday, Age 6 to 12th Birthday, Age 12 to 18th Birthday)—20 CFR 416.912 and 416.924a(a)(2)—0960-0542. As part of SSA's disability determination process, we use Forms SSA-3375-BK through SSA-3379-BK to request information from a child's parent or guardian for children applying for SSI. The five different versions of the form contain questions about the child's day-to-day functioning appropriate to a particular age group; thus, respondents use only one version of the form for each child. The adjudicative team (disability examiners and medical or psychological consultants) of State disability determination services offices collect the information on the appropriate version of this form (in conjunction with medical and other evidence) to form a complete picture of the children's ability to function and their impairment-related limitations. The adjudicative team uses the completed profile to determine: (1) If each child's impairment(s) results in marked and severe functional limitations; and (2) whether each child is disabled. The respondents are parents and guardians of child applicants for SSI.

Type of Request: Revision of an OMB-approved information collection.

Modality of completion | Number of respondents | Frequency of response | Average burden per response (minutes) | Estimated total annual burden (hours)
SSA-3375; SSA-3376; SSA-3377; SSA-3378; SSA-3379 | 579,000 | 1 | 20 | 193,000

5. Private Printing and Modification of Prescribed Application and Other Forms—20 CFR 422.527—0960-0663. 20 CFR 422.527 of the Code of Federal Regulations requires a person, institution, or organization (third-party entities) to obtain approval from SSA prior to reproducing, duplicating, or privately printing any application or other form the agency owns. To obtain SSA's approval, entities must make their requests in writing using their company letterhead, providing the required information set forth in the regulation. SSA uses the information to: (1) Ensure requests comply with the law and regulations, and (2) process requests from third-party entities who want to reproduce, duplicate, or privately print any SSA application or other SSA form. SSA employees review the requests and provide approval via email or mail to the third-party entities. The respondents are third-party entities who submit a request to SSA to reproduce, duplicate, or privately print an SSA-owned form.

This is a correction notice. SSA published this information collection as a revision on June 4, 2019 at 84 FR 25891. Since we are not making any revisions to this collection, this is now an extension of an OMB-approved information collection.

Type of Request: Extension of an OMB-approved information collection.

Regulation section | Number of respondents | Frequency of response | Number of responses | Average burden per response (minutes) | Estimated total annual burden (hours)
20 CFR 422.527 | 10 | 15 | 150 | 10 | 25

6. Letter to Custodian of Birth Records/Letter to Custodian of School Records—20 CFR 404.704, 404.716, 416.802, and 422.107—0960-0693. When individuals need help in obtaining evidence of their age in connection with Social Security number (SSN) card applications and claims for benefits, SSA can prepare the SSA-L106, Letter to Custodian of School Records, or SSA-L706, Letter to Custodian of Birth Records. SSA uses the SSA-L706 to determine the existence of primary evidence of age for SSN applicants. SSA uses both letters to verify with the issuing entity, when necessary, the authenticity of the record submitted by the SSN applicant or claimant. The respondents are schools, State and local bureaus of vital statistics, and religious entities.

Type of Request: Revision of an OMB-approved information collection.

Modality of completion | Number of respondents | Frequency of response | Average burden per response (minutes) | Estimated total annual burden (hours)
SSA-L106—Private Sector | 18 | 1 | 10 | 3
SSA-L106—State/Local/Tribal Government | 14 | 1 | 10 | 2
SSA-L706—Private Sector | 429 | 1 | 10 | 72
SSA-L706—State/Local/Tribal Government | 426 | 1 | 10 | 71
Totals | 887 |  |  | 148

7. Application Status—20 CFR 401.45—0960-0763. Application Status provides users with the capability to check the status of their pending Social Security claims via the National 800 Number Automated Telephone Service. Users need their SSN and a confirmation number to access this information. SSA systems determine the type of claim(s) the caller filed based upon the information provided. Subsequently, the automated telephone system provides callers with the option to choose the claim for which they wish to obtain status. If the caller applied for multiple claims, the automated system allows the caller to select only one claim at a time. Once callers select the claim(s) they are calling about, an automated voice advises them of the status of their claim. The respondents are current Social Security claimants who wish to check on the status of their claims.

Type of Request: Revision of an OMB-approved information collection.

Modality of completion | Number of respondents | Frequency of response | Average burden per response (minutes) | Estimated total annual burden (hours)
Application Status—Automated Telephone System | 248,485 | 1 | 3 | 12,424

8. Government-to-Government Services Online Website Registration Form; Government-to-Government Services Online Website Account Modification/Deletion Form—20 CFR 401.45—0960-0757. The Government-to-Government Services Online (GSO) website allows various external organizations to submit files to a variety of SSA systems and, in some cases, receive files in return. The SSA systems that process data transferred via GSO include, but are not limited to, systems responsible for disability processing and benefit determination or termination. SSA uses the information on Form SSA-159, Government-to-Government Online website Registration Form, to register the requestor to use the GSO website. Once we receive the SSA-159, SSA provides the user with account information and conducts a walkthrough of the GSO website as necessary. Established organizations may submit Form SSA-159 to register additional users as well. The established requesting organizations can also complete Form SSA-160, Government-to-Government Online website Account Modification/Deletion Form, to modify their online accounts (e.g., address change). Respondents are State and local government agencies, and some private sector business entities.

Type of Request: Revision of an OMB-approved information collection.

Modality of completion | Number of respondents | Frequency of response | Average burden per response (minutes) | Estimated total annual burden (hours)
SSA-159 | 1,151 | 1 | 15 | 288
SSA-160 | 410 | 1 | 15 | 103
Totals | 1,561 |  |  | 391

9. Evidence From Excluded Medical Sources of Evidence—20 CFR 404.1503b and 416.903b—0960-0803. Pursuant to its broad authority to regulate under sections 205(a), 702(a)(5), and 1631(d)(1) of the Act, SSA implemented section 223(d)(5)(C), as amended, through regulations at 20 CFR 404.1503b and 416.903b. These regulations require excluded medical sources to self-report their excluded status in writing each time they submit evidence related to a claim for benefits under Titles II or XVI of the Act. Excluded medical sources' duty to self-report their excluded status apply to evidence they submit to SSA directly or through a representative, claimant, or other individual or entity. The respondents for this collection are medical sources that: (1) Meet one of the exclusionary categories set forth in section 223(d)(5)(C)(i) of the Act, as amended; and (2) furnish evidence related to a claim for benefits under Titles II or XVI of the Act.

Type of Request: Revision of an OMB-approved information collection.

Regulation section(s) | Number of respondents | Frequency of response | Number of responses | Average burden per response (minutes) | Estimated total annual burden (hours)
404.1503b(c), 416.903b(c) | 50 | 60 | 3,000 | 20 | 1,000

Dated: August 8, 2019.
Naomi Sipple,
Reports Clearance Officer, Social Security Administration.

[FR Doc. 2019-17281 Filed 8-12-19; 8:45 am]

BILLING CODE 4191-02-P